FEDERAL COMMUNICATIONS COMMISSION

47 CFR Part 68

[CC Docket No. 99-216; FCC 00-400]

2000 Biennial Regulatory Review of Adopting Technical Criteria and Approving Terminal Equipment: Correction

AGENCY: Federal Communications Commission.

ACTION: Correcting amendments.

SUMMARY: This document contains corrections to final regulations which were published at 66 FR 7579, January 24, 2001. The regulations privatize the process by which technical criteria are established for customer premise equipment (CPE or terminal equipment) that are sold for connection to the public switched network, and for the approval of such equipment to demonstrate compliance with the relevant technical criteria.

DATES: Effective May 25, 2001.

FOR FURTHER INFORMATION CONTACT: John C.K. Hays (202) 418-0875 (not a toll-free call).

SUPPLEMENTARY INFORMATION: The final regulations that are the subject of this correction concern the negotiations between a LEC and a building owner to relocate the telecommunications demarcation point(s) to the minimum point of entry (MPOE). The regulations require that the LEC complete the negotiations within 45 days of the building owner's initial request. This requirement was originally adopted in the Competitive Networks Report and Order 66 FR 2322, 2335). However, it was inadvertently changed in the Part 68 Streamlining Report and Order (66 FR 7579, 7592).

Need for Correction

As published, the final regulations contain errors, which may prove to be misleading and are in need of clarification.

List of Subjects in 47 CFR Part 68

Administrative practice and procedure, Communications equipment, Labeling, Reporting and recordkeeping requirements, Telecommunications, Telephone.

Federal Communications Commission.
Marlene H. Dortch,
Secretary.

PART 68—CONNECTION OF TERMINAL EQUIPMENT TO THE TELEPHONE NETWORK

Accordingly, 47 CFR part 68 is corrected by making the following amendment.

1. The authority citation for part 68 continues to read as follows:

Authority: 47 U.S.C. 154, 303.

§ 68.105 [Corrected]

2. In § 68.105(d)(3) remove the word “relocation” and add, in its place, the word “negotiations”.

[FR Doc. 02-24211 Filed 9-24-02; 8:45 am]

BILLING CODE 6712-01-P